ENVIRONMENTAL PROTECTION AGENCY

[FRL-7606-8]

Notice of Availability of Draft Aquatic Life Criteria Document for Nonylphenol and Request for Scientific Views

AGENCY: Environmental Protection Agency (EPA).

ACTION: Notice of availability and request for scientific views.

SUMMARY: This notice informs the public about the availability of a draft aquatic life criteria document for nonylphenol and requests scientific views. The Clean Water Act (CWA) requires the Environmental Protection Agency to develop and publish, and from time to time revise, criteria for water accurately reflecting the latest scientific knowledge. When final, these criteria will provide EPA's recommendations to States and authorized Tribes as they establish their water quality standards as State or Tribal law or regulation. Once established, an EPA water quality criterion does not substitute for the CWA or EPA regulations, nor is it a regulation. It cannot impose legally binding requirements on the EPA, States, authorized Tribes or the regulated community. State and tribal decision makers have discretion to adopt approaches that differ from EPA's guidance on a case-by-case basis. At this time the Agency is not making a final recommendation. Rather the Agency is requesting scientific views on the draft document.

DATES: All scientific information must be submitted to the Agency on or before April 5, 2004.

ADDRESSES: Scientific views must be submitted electronically, by mail, or through hand-delivery/courier. Follow detailed instructions as provided in section C of the SUPPLEMENTARY INFORMATION section.

Copies of the criteria document entitled, Draft Ambient Aquatic Life Water Quality Criteria for Nonylphenol (EPA-822-R-03-029) may be obtained from EPA's Water Resource Center by phone at (202) 566-1729, or by e-mail to center.water.resource@epa.gov or by conventional mail to: EPA Water Resource Center, 4101T, 1200 Pennsylvania Avenue, NW., Washington, DC 20460. You can also download the document from EPA's Web site at http://www.epa.gov/waterscience/criteria/nonylphenol/.

FOR FURTHER INFORMATION CONTACT: Frank Gostomski, Health and Ecological Criteria Division (4304T), U.S. EPA, 1200 Pennsylvania Avenue, NW., Washington, DC 20460; (202) 566-1105; gostomski.frank@epa.gov.

SUPPLEMENTARY INFORMATION:

I. General Information

A. Interested Entities

Entities potentially interested in today's notice are those that produce, use, or regulate nonylphenol. Categories and entities interested in today's action include:

Category | Examples of interested entities
State/Local/Tribal Government | States and Tribes
Nonylphenol Dischargers | Sewage treatment plants
Nonylphenol Users | Producers of surfactants

This table is not intended to be exhaustive, but rather provides a guide for readers regarding entities likely to be interested by this notice. This table lists the types of entities that EPA is now aware could potentially be interested by this action. Other types of entities not listed in the table could also be interested.

B. How Can I Get Copies of This Document and Other Related Information?

1. Docket. EPA has established an official public docket for this notice under Docket ID No. OW-2003-0080. The official public docket consists of the documents specifically referenced in this notice, any scientific views received, and other information related to this notice. Although a part of the official docket, the public docket does not include Confidential Business Information (CBI) or other information whose disclosure is restricted by statute. The official public docket is the collection of materials that is available for public viewing at Water Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Water Docket is (202) 566-2426. To view these documents materials, please call ahead to schedule an appointment. Every user is entitled to copy 266 pages per day before incurring a charge. The Docket may charge 15 cents a page for each page over the 266-page limit plus an administrative fee of $25.00.

2. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view scientific views, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in section I.B.

It is important to note that EPA's policy is that scientific views, whether submitted electronically or in paper, will be made available for public viewing in EPA's electronic public docket as EPA receives them and without change, unless your views and information contain copyrighted material, CBI, or other information whose disclosure is restricted by statute. When EPA identifies a scientific view containing copyrighted material, EPA will provide a reference to that material in the version of the scientific view that is placed in EPA's electronic public docket. The entire printed scientific view, including the copyrighted material, will be available in the public docket.

Scientific views submitted on computer disks that are mailed or delivered to the docket will be transferred to EPA's electronic public docket. Scientific views that are mailed or delivered to the Docket will be scanned and placed in EPA's electronic public docket. Where practical, physical objects will be photographed, and the photograph will be placed in EPA's electronic public docket along with a brief description written by the docket staff.

C. How and To Whom Do I Submit Scientific Views?

You may submit scientific views electronically, by mail, or through hand delivery/courier. To ensure proper receipt by EPA, identify the appropriate docket identification number in the subject line on the first page of your scientific views. Please ensure that your scientific views are submitted within the specified period. Scientific views received after the close of the review period will be marked “late.” EPA is not required to consider these late scientific views.

1. Electronically. If you submit electronic information as prescribed below, EPA recommends that you include your name, mailing address, and an e-mail address or other contact information in the body of your scientific views. Also include this contact information on the outside of any disk or CD-ROM you submit, and in any cover letter accompanying the disk or CD-ROM. This ensures that you can be identified as the submitter of the scientific information and allows EPA to contact you in case EPA cannot read your scientific views due to technical difficulties or needs further information on the substance of your scientific views. EPA's policy is that EPA will not edit your scientific views, and any identifying or contact information provided in the body of the scientific views will be included as part of the scientific views that are placed in the official public docket, and made available in EPA's electronic public docket. If EPA cannot read your scientific views due to technical difficulties and cannot contact you for clarification, EPA may not be able to consider your scientific views.

i. EPA Dockets. Your use of EPA's electronic public docket to submit scientific views to EPA electronically is EPA's preferred method for receiving scientific views. Go directly to EPA Dockets at http://www.epa.gov/edocket, and follow the online instructions for submitting scientific views. To access EPA's electronic public docket from the EPA Internet Home Page, select “Information Sources,” “Dockets,” and “EPA Dockets.” Once in the system, select “search,” and then key in Docket ID No. OW-2003-0080. The system is an “anonymous access” system, which means EPA will not know your identity, e-mail address, or other contact information unless you provide it in the body of your information.

ii. E-mail. Scientific views may be sent by electronic mail (e-mail) to OW-Docket@epa.gov, Attention Docket No. OW-2003-0080. In contrast to EPA's electronic public docket, EPA's e-mail system is not an “anonymous access” system. If you send an e-mail with scientific views directly to the Docket without going through EPA's electronic public docket, EPA's e-mail system automatically captures your e-mail address. E-mail addresses that are automatically captured by EPA's e-mail system are included as part of the information that is placed in the official public docket, and made available in EPA's electronic public docket.

iii. Disk or CD-ROM. You may submit scientific views on a disk or CD-ROM that you mail to the mailing address identified in section I.C.2. These electronic submissions will be accepted in WordPerfect or ASCII file format. Avoid the use of special characters and any form of encryption.

2. By Mail. Send your scientific views to: Water Docket in the EPA Docket Center, Environmental Protection Agency, Mailcode 4101T, 1200 Pennsylvania Ave., NW, Washington, DC 20460, Attention Docket ID No. OW-2001-0010.

3. By Hand Delivery or Courier. Deliver your scientific views to: Water Docket, EPA Docket Center, EPA West, Room B102, 1301 Constitution Ave., NW., Washington, DC, Attention Docket ID No. OW-2001-0080. Such deliveries are only accepted during the Docket's normal hours of operation as identified in section I.B.1.

D. What Should I Consider as I Prepare My Scientific Views for EPA?

You may find the following suggestions helpful for preparing your scientific views:

1. Explain your scientific views as clearly as possible.

2. Describe any assumptions that you used.

3. Provide any technical information and/or data you used that support your scientific views.

4. Provide specific examples to illustrate your concerns.

5. Offer alternatives.

6. Make sure to submit your scientific views by the deadline identified.

7. To ensure proper receipt by EPA, identify the appropriate docket identification number in the subject line on the first page of your response. It would also be helpful if you provided the name, date, and Federal Register citation related to your scientific views.

II. Background and Today's Notice

A. What Are Recommended Water Quality Criteria?

Recommended water quality criteria represent the concentrations of a chemical in water at or below which aquatic life are protected from acute and chronic adverse effects of the chemical. Section 304(a)(1) of the Clean Water Act (CWA) requires EPA to develop and publish, and from time to time revise, criteria for water accurately reflecting the latest scientific knowledge. Water quality criteria developed under section 304(a) are based solely on data and scientific judgments. They do not consider economic impacts or the technological feasibility of meeting the criteria in ambient water. Section 304(a) criteria provide guidance to States and Tribes in adopting water quality standards. The criteria also provide a scientific basis for EPA to develop Federally promulgated water quality standards under section 303(c) of the CWA.

B. What Is Nonylphenol and Why Are We Concerned About It?

Nonylphenol is an organic chemical produced in large quantities in the United States. It is used as an intermediate chemical to produce nonionic surfactants of the nonylphenol ethoxylate type. The nonionic surfactants are used as oil soluble detergents and emulsifiers to produce anionic detergents, lubricants, antistatic agents, high performance textile scouring agents, emulsifiers for agrichemicals, antioxidants for rubber manufacture, and lubricant oil additives. Environmental exposure occurs mainly from its release as a breakdown product from industrial and domestic sewage treatment plant effluents but may also occur from industrial manufacture, distribution releases, and other sources. Nonylphenol is moderately soluble and resistant to natural degradation in water. Because of nonylphenol's chemical properties and widespread use as a chemical intermediate, concerns have been raised over the potential risks posed by exposure of aquatic organisms to it. For these reasons, EPA has developed draft ambient water quality criteria for nonylphenol.

C. What Are the Draft National Recommended Water Quality Criteria for Nonylphenol?

Freshwater

Aquatic life should not be affected unacceptably if the: One-hour average concentration of nonylphenol does not exceed 27.9 ug/l more than once every three years on the average (Acute Criterion); and Four-day average concentration of nonylphenol does not exceed 5.9 ug/l more than once every three years on the average (Chronic Criterion).

Saltwater

Aquatic life should not be affected unacceptably if the: One-hour average concentration of nonylphenol does not exceed 6.7 ug/l more than once every three years on the average (Acute Criterion); and Four-day average concentration of nonylphenol does not exceed 1.4 ug/l more than once every three years on the average (Chronic Criterion).

D. Why Is EPA Notifying the Public About the Draft Nonylphenol Criteria Document?

Today, EPA is notifying the public about the availability of this draft aquatic life criteria document for nonylphenol to elicit scientific input on this document. EPA notified the public of its intent to develop aquatic life criteria for nonylphenol in the Federal Register on October 29, 1999 (64 FR 58409). At that time EPA made available to the public all references identified by a recent literature review and solicited any additional pertinent data or scientific views that would be useful in developing the draft aquatic life criteria for nonylphenol. EPA is now making the draft aquatic life criteria document for nonylphenol available to the public and soliciting scientific input.

E. Where Can I Find More Information on EPA's Revised Process for Developing New or Revised Criteria?

The Agency published detailed information about its revised process for developing and revising criteria in the Federal Register on December 10, 1998 (63 FR 68354) and in the EPA document entitled, National Recommended Water Quality—Correction (EPA 822-Z-99-001, April 1999). The purpose of the revised process is to provide expanded opportunities for public input, and to make the criteria development process more efficient.

Dated: December 27, 2003.
Geoffrey H. Grubbs,
Director, Office of Science and Technology.

[FR Doc. 04-81 Filed 1-2-04; 8:45 am]

BILLING CODE 6560-50-P